DEPARTMENT OF HEALTH AND HUMAN SERVICES

Administration for Children and Families

Submission for OMB Review; Behavioral Interventions To Advance Self-Sufficiency Next Generation (BIAS-NG) (0970-0502)

AGENCY: Office of Planning, Research, and Evaluation; Administration for Children and Families; HHS.

ACTION: Request for public comment.

SUMMARY: The Office of Planning, Research, and Evaluation (OPRE) in the Administration for Children and Families (ACF), U.S. Department of Health and Human Services (HHS) requests Office of Management and Budget (OMB) approval to modify the previously approved pilot generic clearance (0970-0502) to collect data as part of rapid cycle testing and evaluation, in order to inform the design of interventions informed by behavioral science and to better understand the mechanisms and effects of such interventions. Interventions have been and will continue to be developed in the program area domains of Temporary Assistance for Needy Families (TANF) and child welfare, and this revision would also allow for collection of data in the Early Head Start/Head Start program area. These interventions are intended to improve outcomes for participants in these programs.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV. Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Correction

This is a republication of Federal Register 2019-13701; 84 FR 30718 to ensure the correct materials are available for public comment on RegInfo.gov.

Description: OPRE is conducting the Behavioral Interventions to Advance Self-Sufficiency Next Generation (BIAS-NG) project. This project uses behavioral insights to design and test interventions intended to improve the efficiency, operations, and efficacy of human services programs. The BIAS-NG project is applying and testing behavioral insights to ACF programs including TANF and Child Welfare, and intends to expand these efforts to Early Head Start/Head Start. This notice is a revision to a previously approved collection, which included data collection to design and test interventions in the TANF and Child Welfare domains. Under the approved pilot generic clearance, OPRE plans to work with approximately six sites, and will conduct one or more tests per site, for a total of approximately 9 tests of behavioral interventions. At least one of these sites will be in the newly added program area of Head Start/Early Head Start. The design and testing of BIAS-NG interventions is rapid and, to the extent possible, iterative. Each specific intervention is designed in consultation with agency leaders and launched as quickly as possible. To maximize the likelihood that the intervention produces measurable, significant, positive effects on outcomes of interest, rapid cycle evaluation techniques will be employed in which proximate outcomes will be measured to allow the research team to more quickly iterate and adjust the intervention design, informing subsequent tests. Due to the rapid and iterative nature of this work, OPRE sought and received generic clearance to conduct this research. Following standard OMB requirements for generic clearances, once instruments requiring burden are tailored to a specific site and the site's intervention, OPRE submits an individual generic information collection request under this umbrella clearance. Each request includes the individual instrument(s), a justification specific to the individual information collection, a description of the proposed intervention, and any supplementary documents. Each specific information collection includes up to two submissions: One submission for the formative stage research and another submission for any further data collection requiring burden during the testing phase. The type of information to be collected and the uses of the information is described in the supporting statements, found here: https://www.reginfo.gov/public/do/PRAViewDocument?ref_nbr=201707-0970-005.

This Notice is specific to expanding the program area domains to include Early Head Start/Head Start, in addition to the previously approved domains of Child Welfare and TANF.

Respondents: (1) Program Administrators, (2) Program Staff and (3) Program Clients.

Total Burden Estimates
[TANF, CW, Third Domain]
Instrument | Previously approved respondents for TANF & CW | Total number of respondents (TANF, CW, EHS/HS) | Number of responses per respondent | Average burden hours per response | Total burden hours with 3rd domain
Diagnosis and Design
Administrator interviews/focus groups | 24 | 48 | 1 | 1 | 48
Staff interviews/focus groups | 48 | 378 | 1 | 1 | 378
Client interviews/focus groups | 48 | 348 | 1 | 1 | 348
Client survey | 600 | 840 | 1 | .25 | 210
Staff Survey | 120 | 144 | 1 | .25 | 36
Evaluation
Administrator interviews/focus groups | 48 | 96 | 1 | 1 | 96
Staff interviews/focus groups | 96 | 756 | 1 | 1 | 756
Client interviews/focus groups | 96 | 696 | 1 | 1 | 696
Client survey | 6,000 | 10,800 | 1 | .25 | 2,700
Staff Survey | 120 | 600 | 1 | .25 | 150

Estimated Total Burden Hours: 5,418.

Authority: 42 U.S.C. 1310.

Mary B. Jones,
ACF/OPRE Certifying Officer.

[FR Doc. 2019-15082 Filed 7-15-19; 8:45 am]

BILLING CODE 4184-07-P